DEPARTMENT OF HEALTH AND HUMAN SERVICES

Centers for Medicare & Medicaid Services

[CMS-2200-N2]

Medicare Program; Establishment of the State Pharmaceutical Assistance Transition Commission

AGENCY: Centers for Medicare & Medicaid Services (CMS), HHS.

ACTION: Notice.

SUMMARY: This notice announces the establishment of the State Pharmaceutical Assistance Transition Commission (the Commission) that will develop a proposal for addressing the unique transitional issues facing State Pharmaceutical Assistance Programs (SPAP) and SPAP participants due to the implementation of the voluntary prescription drug benefit program under part D of title XVIII of the Social Security Act.

This notice also announces the signing by the Secretary on March 1, 2004 of the charter establishing the Commission. The charter will terminate 30 days after the date of the submission of the report to Congress, but no later than January 31, 2005.

FOR FURTHER INFORMATION CONTACT: Marge Watchorn, Health Insurance Specialist, Center for Medicaid and State Operations, Centers for Medicare & Medicaid Services, Mail stop S2-01-16, Baltimore, MD 21244-1850, (410) 786-4361.

SUPPLEMENTARY INFORMATION:

I. Background

Section 106 of the Medicare Prescription Drug, Improvement, and Modernization Act of 2003 (MMA) (Pub. L. 108-173), enacted on December 8, 2003, mandates that the Secretary of the Department of Health and Human Services (the Secretary) establish a State Pharmaceutical Assistance Transition Commission (the Commission) by March 1, 2004. The Commission will develop a proposal for addressing the unique transitional issues facing State Pharmaceutical Assistance Programs (SPAP) and SPAP participants due to the implementation of the voluntary prescription drug benefit program under part D of title XVIII of the Social Security Act (the Act), as added by section 101 of the MMA.

The Commission, chartered under section 106 of the MMA, Pub. L. 108-173, is governed by the provisions of the Federal Advisory Committee Act (FACA), 5 U.S.C. Appendix 2, which sets forth standards for the formation and use of advisory committees.

The composition of the Commission must include the following:

• A representative of each Governor of each State that the Secretary identifies as operating, on a statewide basis, an SPAP that provides for eligibility and benefits that are comparable to, or more generous than, the low-income assistance and eligibility and benefits offered under section 1860D-14 of the Act.

• Representatives from other States that the Secretary identifies have in operation other SPAPs, as appointed by the Secretary.

• Representatives of organizations that have an inherent interest in program participants or the program itself, as appointed by the Secretary.

• Representatives of Medicare Advantage organizations, pharmaceutical benefit managers, and other private health insurance plans, as appointed by the Secretary.

• The Secretary (or the Secretary's designee) and any other members that the Secretary may specify. The Secretary will designate a member to serve as Chair of the Commission and the Commission will meet at the call of the Chair.

II. Provisions of the Notice

This notice announces the signing of the State Pharmaceutical Assistance Transition Commission charter by the Secretary on March 1, 2004. The charter will terminate 30 days after the date of the submission of the report to Congress, but no later than January 31, 2005.

III. Report to Congress

By no later than January 1, 2005, the Commission shall submit to the President and Congress a report that contains a detailed proposal (including specific legislative or administrative recommendations, if any) and other recommendations as the Commission deems appropriate.

IV. Copies of the Charter

You may obtain a copy of the charter for the State Pharmaceutical Assistance Transition Commission by submitting a request to Marge Watchorn, Health Insurance Specialist, Center for Medicaid and State Operations, Centers for Medicare & Medicaid Services, 7500 Security Boulevard, Mail stop S2-01-16, Baltimore, MD 21244-1850. (410) 786-4361, or E-Mail the request to mwatchorn@cms.hhs.gov.

Authority: Section 106 of the Medicare Prescription Drug, Improvement, and Modernization Act of 2003.

(Catalog of Federal Domestic Assistance Program No. 93.778, Medical Assistance Program)
Dated: February 26, 2004.
Dennis G. Smith,
Acting Administrator, Centers for Medicare & Medicaid Services.

[FR Doc. 04-4907 Filed 3-1-04; 4:54 pm]

BILLING CODE 4120-01-P